DEPARTMENT OF TRANSPORTATION

Federal Aviation Administration

Twenty Eighth RTCA SC-217 Aeronautical Databases Joint Plenary with EUROCAE WG-44

AGENCY: Federal Aviation Administration (FAA), U.S. Department of Transportation (DOT).

ACTION: Twenty Eighth RTCA SC-217 Aeronautical Databases Joint Plenary with EUROCAE WG-44.

SUMMARY: The FAA is issuing this notice to advise the public of a meeting of Twenty Eighth RTCA SC-217 Aeronautical Databases Joint Plenary with EUROCAE WG-44.

DATES: The meeting will be held on February 27 to March 1, 2017, from 9:00 a.m.-5:00 p.m. and March 2, 2017, from 9:00 a.m.-3:00 p.m. Registration is required for attendance. Please contact Rebecca Morrison at rmorrison@rtca.org or 202-330-0654 to register and receive further information for the meeting.

ADDRESSES: The meeting will be held at: Airbus Facilities, 1 Avenue d'Aéroconstellation, 31700 Blagnac, France.

FOR FURTHER INFORMATION CONTACT: Rebecca Morrison at rmorrison@rtca.org or 202-330-0654, or The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twenty Eighth RTCA SC-217 Aeronautical Databases Joint Plenary with EUROCAE WG-44. The agenda will include the following:

Monday, February 27, 2017—9:00 a.m.-5:00 p.m.

1. Co-Chairmen's remarks and introductions

2. Housekeeping & meeting logistics

3. DFO statement and RTCA/EUROCAE IP and membership policies

4. Approve minutes from 27th meeting

5. Review and approve meeting agenda for 28th meeting

6. Action item list review

7. Presentations (TBD)

8. Adjourn to Working Group Sessions at 12:00 p.m.

Tuesday, February 28, 2017—9:00 a.m.-5:00 p.m.

Continue Working Group Sessions.

Wednesday March 1, 2017—9:00 a.m.-5:00 p.m.

Continue Working Group Sessions.

Thursday March 2, 2017—9:00 a.m.-3:00 p.m.

Continue Working Group Sessions until 12:00 p.m.

9. Reconvene Plenary at 1 p.m.

10. Meeting wrap-up: Main conclusions and way forward

11. Review of action items

12. Next meetings

13. Any other business

14. Adjourn

Attendance is open to the interested public but limited to space availability. Registration is required for attendance. With the approval of the chairman, members of the public may present oral statements at the meeting. Persons wishing to present statements or obtain information should contact the person listed in the FOR FURTHER INFORMATION CONTACT section. Members of the public may present a written statement to the committee at any time.

Issued in Washington, DC, on January 24, 2017.
Mohannad Dawoud,
Management & Program Analyst, Partnership Contracts Branch, ANG-A17 NextGen, Procurement Services Division, Federal Aviation Administration.

[FR Doc. 2017-01889 Filed 1-27-17; 8:45 am]

BILLING CODE 4910-13-P